DEPARTMENT OF HEALTH AND HUMAN SERVICES

National Institutes of Health

National Cancer Institute; Notice of Meeting

Pursuant to section 10(a) of the Federal Advisory Committee Act, as amended (5 U.S.C. App.), notice is hereby given of the meeting of the President's Cancer Panel.

The meeting will be open to the public, with attendance limited to space available. Individuals who plan to attend and need special assistance, such as sign language interpretation or other reasonable accommodations, should notify the Contact Person listed below in advance of the meeting.

Name of Committee: President's Cancer Panel, “Pricing and Payment Strategies for Cancer Drugs: Maximizing Patients' Access to Beneficial Therapies”.

Date: March 27, 2017.

Time: 8:30 a.m. to 4:00 p.m.

Agenda: Welcome and Introductions; Opening Presentations; The Pricing Landscape; Public Comment; Potential Actions To Encourage Pricing Strategies That Maximize Patients' Access to Drug Therapy; The Payment Landscape; Wrap-Up and Final Remarks for the Day; Public Comment.

Place: Kimpton Hotel Palomar, 117 South 17th Street, Philadelphia, PA 19103.

Date: March 28, 2017.

Time: 9:00 a.m. to 1:00 p.m.

Agenda: Welcome and Introductions; Day 1 Recap and Continuing Discussion on The Payment Landscape; Potential Actions To Encourage Payment Strategies That Maximize Patients' Access to Drug Therapy; Conclusions and Cross-Cutting Recommendations; Wrap-Up and Next Steps; Public Comment.

Place: Kimpton Hotel Palomar, 117 South 17th Street, Philadelphia, PA 19103.

Contact Person: Abby B. Sandler, Ph.D., Executive Secretary, President's Cancer Panel, Special Assistant to the Director, Rare Tumors Initiative, Center for Cancer Research, National Cancer Institute, NIH, 9000 Rockville Pike, Building 31, Room B2B37, MSC 2590, Bethesda, MD 20892-8349, 301-451-9399, sandlera@mail.nih.gov.

Any interested person may file written comments with the committee by forwarding the statement to the Contact Person listed on this notice. The statement should include the name, address, telephone number and when applicable, the business or professional affiliation of the interested person.

Information is also available on the Institute's/Center's home page: https://prescancerpanel.cancer.gov/, where an agenda and any additional information for the meeting will be posted when available.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: January 26, 2017.
Melanie J. Pantoja,
Program Analyst, Office of Federal Advisory Committee Policy.

[FR Doc. 2017-02156 Filed 1-31-17; 8:45 am]

BILLING CODE 4140-01-P